Title 3—

The President

Proclamation 9184 of October 2, 2014

National Manufacturing Day, 2014

By the President of the United States of America

A Proclamation

With ingenuity and a determined spirit, hardworking Americans are creating products and unlocking new technologies that will shape our Nation and grow our economy. In uncertain times, our parents and grandparents built a robust manufacturing sector that spurred the world's largest economy and strongest middle class. When our generation faced an economy in free fall and an industry on the brink of collapse, we bet on American resilience and American workers, and today innovative technologies, new wellsprings of manufacturing entrepreneurship, and our country's increasing competitiveness are fueling a revitalization of American manufacturing. On National Manufacturing Day, we celebrate all those who proudly stand behind our goods and services made in America, and we renew our commitment to winning the race for the jobs of tomorrow.

America's manufacturers have created jobs at the fastest pace in decades, adding more than 700,000 new jobs since February 2010. Factories are reopening their doors and businesses are hiring new workers; companies that were shipping jobs overseas are bringing those jobs back to America. As we work to rebuild a foundation of growth and prosperity, we have an opportunity to capitalize on this momentum and accelerate the resurgence of American manufacturing.

Ensuring that America is at the forefront of 21st century manufacturing requires research, investment, and a workforce with high-tech skills. That is why my Administration is investing in regional manufacturing hubs, which bring together private industry, leading universities, and public agencies to solve technology challenges too significant for any one firm. These partnerships will help develop cutting-edge technology and train workers in the skills they need for the next generation of American manufacturing. Across our country, we are creating magnets that attract good, high-tech manufacturing jobs—they have the potential to lift up our communities, spark technology that jumpstarts new industries, and fundamentally change the way we build things in America.

My Administration continues to encourage manufacturing production and investment because the next revolution in manufacturing should be an American revolution, and our Nation's promise of opportunity should be within the reach of everyone willing to work for it. In response to my call to action and as part of the first-ever White House Maker Faire, more than 90 mayors and local leaders have committed to increase access to manufacturing spaces and equipment in their communities, and to provide the chance for more students and adults to become Makers and manufacturing entrepreneurs. The Federal Government is leading the way by expanding access to more than $5 billion worth of Federal technology. Together, we are building an economy that works for all Americans.

On National Manufacturing Day, more than 1,600 American manufacturers will open their doors and take up the important work of inspiring our young people to pursue careers in manufacturing and engineering. Today's science, technology, engineering, and math graduates will power the next chapter of American production and innovation, and harnessing their potential is an economic imperative.

When our manufacturing base is strong, our entire economy is strong. Today, we continue our work to bolster the industry at the heart of our Nation. With grit and resolve, we can create new jobs and widen the circle of opportunity for more Americans.

NOW, THEREFORE, I, BARACK OBAMA, President of the United States of America, by virtue of the authority vested in me by the Constitution and the laws of the United States, do hereby proclaim October 3, 2014, as National Manufacturing Day. I call upon the people of the United States to observe this day with programs and activities that highlight the contributions of American manufacturers, and I encourage all Americans to visit a manufacturer in their local community.

IN WITNESS WHEREOF, I have hereunto set my hand this second day of October, in the year of our Lord two thousand fourteen, and of the Independence of the United States of America the two hundred and thirty-ninth.

[FR Doc. 2014-24104

Filed 10-6-14; 11:15 am]

Billing code 3295-F5